DEPARTMENT OF DEFENSE

Defense Acquisition Regulations System

[Docket Number DARS-2021-0009; OMB Control Number 0704-0187]

Information Collection Requirement; Defense Federal Acquisition Regulation Supplement; Information Collection in Support of the DoD Acquisition Process (Various Miscellaneous Requirements)

AGENCY: Defense Acquisition Regulations System, Department of Defense (DoD).

ACTION: Notice.

SUMMARY: The Defense Acquisition Regulations System has submitted to OMB for clearance the following proposed revision and extension of a collection of information under the provisions of the Paperwork Reduction Act.

DATES: Consideration will be given to all comments received by August 30, 2021.

SUPPLEMENTARY INFORMATION: Title and OMB Number: Defense Federal Acquisition Regulation Supplement (DFARS), Information Collection in Support of the DoD Acquisition Process (Various Miscellaneous Requirements), OMB Control Number 0704-0187.

Type of Request: Revision and extension.

Affected Public: Businesses or other for-profit and not-for profit institutions.

Respondent's Obligation: Required to obtain or retain benefits.

Number of Respondents: 469.

Responses per Respondent: 1.29.

Annual Responses: 601.

Hours per Response: 1.68, approximately.

Annual Burden Hours: 1,010.

Reporting Frequency: On occasion.

Needs and Uses: This information collection requirement pertains to information required in DFARS parts 208, 209, 235, and associated solicitation provision and contract clauses in part 252 that offerors and contractors must submit to DoD in response to a request for proposals or an invitation for bids or a contract requirement. The estimates of the number of respondents and responses are revised to correct a typographical error. DoD uses this information to—

• Determine whether to provide precious metals as Government-furnished material;

• Determine whether a foreign government owns or controls the offeror to prevent access to proscribed information;

• Determine whether there is a compelling reason for a contractor to enter into a subcontract in excess of $35,000 with a firm, or subsidiary of a firm, that is identified in the System for Award Management Exclusions as ineligible for award of Defense subcontracts because it is owned or controlled by the government of a country that is a state sponsor of terrorism;

• Evaluate claims of indemnification for losses or damages occurring under a research and development contract; and

• Keep track of radio frequencies on electronic equipment under research and development contracts so that the user does not override or interfere with the use of that frequency by another user.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: https://www.regulations.gov. Follow the instructions for submitting comments.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2021-16153 Filed 7-29-21; 8:45 am]

BILLING CODE 5001-06-P